DEPARTMENT OF HOMELAND SECURITY

Coast Guard

33 CFR Part 117

[CGD05-05-031]

RIN 1625-AA-09

Drawbridge Operation Regulations; Elizabeth River, Eastern Branch, Virginia

AGENCY: Coast Guard, DHS.

ACTION: Notice of temporary deviation from regulations.

SUMMARY: The Commander, Fifth Coast Guard District, has approved a temporary deviation from the regulations governing the operation of the Norfolk Southern (NS) #5 Railroad Bridge across the Elizabeth River, Eastern Branch, at mile 1.1, in Norfolk, VA in May 2005. To facilitate extensive maintenance that is required at the bridge, the deviation allows the drawbridge to remain in the closed-to-navigation position for three daytime closure periods during May, each closure period lasting 2 to 4 days.

DATES: The deviation is effective from 8 a.m. on May 3 to 4:30 p.m. on May 19, 2005.

FOR FURTHER INFORMATION CONTACT: Bill Brazier, Bridge Management Specialist, Fifth Coast Guard District, at (757) 398-6422.

SUPPLEMENTARY INFORMATION: The Norfolk Southern Corporation, who owns and operates the NS #5 Railroad Bridge, has requested temporary deviations in May 2005 from the operating regulation to change out two sets of lift joints from the lift span of the bridge and to replace 504 bridge ties on the east bound main track.

To facilitate this extensive maintenance of the bridge, the lift-span will be locked in the closed-to-navigation position during the following closure periods: each day from 8 a.m. to 4 p.m., on May 3 and 4, 2005; each day from 8:30 a.m. to 12 p.m. and from 1 p.m. to 4:30 p.m. on May 9 to 12 and on May 16 to 19, 2005. During these stages, the work requires completely immobilizing the operation of the lift span in the closed-to-navigation position. At all other times, the bridge will operate in accordance with the general operating regulations set out in 33 CFR 117.5 that require the bridge to open promptly and fully for the passage of vessels when a request to open is given.

The Coast Guard has informed the known users of the waterway of the closure periods for the bridge so that these vessels can arrange their transits to minimize any impact caused by the temporary deviations.

The District Commander has granted a temporary deviation from the operating requirements listed in 33 CFR 117.35 for the purpose of repair completion of the drawbridge. The temporary deviation allows the NS #5 Railroad Bridge across the Eastern Branch of the Elizabeth River, at mile 1.1, in Norfolk VA, to remain in the closed-to-navigation position during the following closure periods: each day from 8 a.m. to 4 p.m., on May 3 and 4, 2005; each day from 8:30 a.m. to 12 p.m. and from 1 p.m. to 4:30 p.m. on May 9 to 12 and on May 16 to 19, 2005.

Dated: April 12, 2005.
Waverly W. Gregory, Jr.,
Chief, Bridge Administration Branch, Fifth Coast Guard District.

[FR Doc. 05-8568 Filed 4-28-05; 8:45 am]

BILLING CODE 4910-15-P